DEPARTMENT OF THE INTERIOR

Bureau of Land Management

[NV-912-04-1990-PP-241A-006F]

Sierra Front-Northwestern Great Basin Resource Advisory Council; Notice of Meeting Location and Time

AGENCY: Bureau of Land Management, Interior.

ACTION: Notice of meeting location and time for the Sierra Front-Northwestern Great Basin Resource Advisory Council (Nevada).

SUMMARY: In accordance with the Federal Land Policy and Management Act and the Federal Advisory Committee Act of 1972 (FACA), a meeting of the U.S. Department of the Interior, Bureau of Land Management (BLM) Sierra Front-Northwestern Great Basin Resource Advisory Council (RAC), Nevada, will be held as indicated below. Topics for discussion at the meeting will include, but are not limited to: Manager's reports of current field office activities; Pine Nut Mountain RMP Amendment DEIS; review of Carson City & Winnemucca Field Offices criteria and initial project proposals for Round 5 of the Southern Nevada Public Lands Management Act; review of Mojave-Southern RAC's proposed Wild Horse & Burro Management Standards & Guidelines and modification to meet the needs of the Northwest Great Basin; review of proposed 2004-2005 Wild Horse Herd Management Area gathers in the Northwest Great Basin; discussion on differences and inconsistencies in field office consultation procedures under Section 106 of the National Historic Preservation Act; discussion of a Pershing County Land Bill; resource management update on the Truckee, Carson & Walker River systems, including, weather-permitting, a field trip to McCarran Ranch, Mustang Ranch, 102 Ranch & other flood control/restoration projects along the Truckee River, east of Reno/Sparks, Nevada; and additional topics the council may raise during the meeting.

DATES: The RAC will meet on Thursday, January 22, 2004, from 9 a.m. to 5 p.m., and Friday, January 23, 2004, from 8 a.m. to 3:30 p.m., at the BLM-Nevada State Office, Great Basin A&B Conference Room, 1340 Financial Blvd., Reno, Nevada. All meetings and field trips are open to the public. A general public comment period, where the public may submit oral or written comments to the RAC, will be held at 4 p.m. on January 22, 2004.

A final detailed agenda, with any additions/corrections to agenda topics, field trip stops and meeting times, will be available on the internet no later than January 8, 2004, at www.nv.blm.gov/rac; hard copies can also be mailed or sent via FAX. Individuals who need special assistance such as sign language interpretation or other reasonable accommodations, or who wish a hard copy of the agenda, should contact Mark Struble, Carson City Field Office, 5665 Morgan Mill Road, Carson City, NV 89701, telephone (775) 885-6107, no later than January 12, 2004.

FOR FURTHER INFORMATION CONTACT: Mark Struble, Public Affairs Officer, BLM Carson City Field Office, 5665 Morgan Mill Road, Carson City, NV 89701. Telephone: (775) 885-6107. E-mail: mstruble@nv.blm.gov.

Dated: November 26, 2003.
Elayn Briggs,
Acting Field Office Manager, BLM-Carson City Field Office.

[FR Doc. 03-30071 Filed 12-2-03; 8:45 am]

BILLING CODE 4310-HC-P